DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 5, 2011. Address written comments to Statutory Import Programs Staff, Room 3720, U.S. Department of Commerce, Washington, DC 20230. Applications may be examined between 8:30 a.m. and 5 p.m. at the U.S. Department of Commerce in Room 3720.

Docket Number: 11-065. Applicant: University of Florida, Department of Biochemistry, 1600 SW Archer Road, Gainesville, FL 32610-0245. Instrument: Electron Microscope. Manufacturer: FEI Co., Czech Republic. Intended Use: The instrument will be used to study various macromolecular complexes including ~200 nm thick sections of specimen blocks prepared from diverse cell types such as mammalian tissues, invertebrate cells, plant cells, bacterial cells, and fungal cells. To determine the 3D structures of isolated macromolecules at sub-nanometer resolution, dual axis electron tomography, immune-electron tomography, and single-particle reconstruction techniques will be used. Justification for Duty-Free Entry: There are no instruments of the same general category manufactured in the United States. Application accepted by Commissioner of Customs: October 12, 2011.

Docket Number: 11-066. Applicant: University of Florida, Department of Biochemistry, 1600 SW Archer Road, Gainesville, FL 32610-0245. Instrument: Electron Microscope. Manufacturer: FEI Co., Czech Republic. Intended Use: The instrument will be used to study various macromolecular complexes including ~200 nm thick sections of specimen blocks prepared from diverse cell types such as mammalian tissues, invertebrate cells, plant cells, bacterial cells, and fungal cells. To determine the 3D structures of isolated macromolecules at sub-nanometer resolution, dual axis electron tomography, immune-electron tomography, and single-particle reconstruction techniques will be used. Justification for Duty-Free Entry: There are no instruments of the same general category manufactured in the United States. Application accepted by Commissioner of Customs: October 25, 2011.

Dated: November 7, 2011.
Gregory Campbell,
Director, IA Subsidies Enforcement Office.

[FR Doc. 2011-29334 Filed 11-10-11; 8:45 am]

BILLING CODE 3510-DS-P